DEPARTMENT OF AGRICULTURE

Forest Service

Boundary Establishment for Zig Zag National Wild and Scenic River, Mt. Hood National Forest, Clackamas County, Oregon

AGENCY: Forest Service, Agriculture (USDA).

ACTION: Notice of availability.

SUMMARY: In accordance with Section 3(b) of the Wild and Scenic Rivers Act, the USDA Forest Service, Washington Office, is transmitting the final boundary of the Zig Zag National Wild and Scenic River to Congress.

FOR FURTHER INFORMATION CONTACT: John Matthews, Regional Land Surveyor, by telephone at 503-808-2420 or via email at john.matthews@usda.gov. Alternatively, Michelle Lombardo on the Mt. Hood National Forest by telephone at 971-303-2083 or via email at vmichelle.lombardo@usda.gov. Individuals who use telecommunication devices for the hearing-impaired (TDD) may call the Federal Information Relay Service (FIRS) at 1-800-877-8339 24 hours a day, every day of the year, including holidays.

SUPPLEMENTARY INFORMATION: The Zig Zag Wild and Scenic River boundary description is available for review on the Forest Service website: (https://www.fs.usda.gov/main/mthood/landmanagement/planning).

Due to COVID-19 health and safety protocols to protect employees and visitors, some Forest Service offices may be closed to the public; please contact the appropriate Forest Service office to determine if they are open or schedule an appointment prior to arrival. The Zig Zag Wild and Scenic River boundary is available for review at the following offices if arrangements are made in advance: USDA Forest Service, Yates Building, 14th and Independence Avenues SW, Washington, DC 20024, by telephone 800-832-1355; Pacific Northwest Regional Office, 1220 SW Third Avenue, Portland, OR 97204, by telephone 503-808-2468; and Mt. Hood National Forest Supervisor's Office, 16400 Champion Way, Sandy, OR 97055, by phone 503-668-1700.

The Omnibus Public Land Management Act of 2009 (Pub. L. 111-11) of March 30, 2009, designated Zig Zag River, Oregon as a National Wild and Scenic River, to be administered by the Secretary of Agriculture. As specified by law, the boundary will not be effective until ninety days after Congress receives the transmittal.

Christopher French,
Deputy Chief, National Forest System, Forest Service.

[FR Doc. 2022-17967 Filed 8-19-22; 8:45 am]

BILLING CODE 3411-15-P